ENVIRONMENTAL PROTECTION AGENCY

[OPP-2004-0107; FRL-7700-9]

Imazalil; Availability of Reregistration Eligibility Decision

AGENCY: Environmental Protection Agency (EPA).

ACTION: Notice.

SUMMARY: This notice announces the availability of the Reregistration Eligibility Decision (RED) document for the pesticide active ingredient imazalil. The RED represents EPA's formal regulatory assessment of the human health and environmental data base of imazalil and presents the Agency's determination regarding which pesticidal uses are eligible for reregistration under the Federal Insecticide, Fungicide, and Rodenticide Act (FIFRA).

FOR FURTHER INFORMATION CONTACT: Meghan French, Special Review and Reregistration Division (7508C), Office of Pesticide Programs, Environmental Protection Agency, 1200 Pennsylvania Ave., NW., Washington, DC 20460-0001; telephone number: (703) 308-8004; fax number: (703) 308-8005; e-mail address: french.meghan@epa.gov.

SUPPLEMENTARY INFORMATION:

I. General Information

A. Does this Action Apply to Me?

This action is directed to the public in general. This action may, however, be of interest to persons who are or may be required to conduct testing of chemical substances under the Federal Insecticide, Fungicide, and Rodenticide Act (FIFRA) or the Federal Food, Drug, and Cosmetic Act (FFDCA); environmental, human health, and agricultural advocates; pesticides users; and members of the public interested in the use of pesticides. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2004-0107. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although, not all docket materials may be available electronically, you may still access any of the publicly available docket materials through the docket facility identified in Unit I.B.1. Once in the system, select “search,” then key in the appropriate docket ID number.

II. Background

A. What Action is the Agency Taking?

The Agency has issued the imazalil RED. Under the Federal Insecticide, Fungicide, and Rodenticide Act (FIFRA), as amended in 1988, EPA is conducting an accelerated reregistration program to reevaluate existing pesticides to make sure they meet current scientific and regulatory standards. The data base to support the reregistration of imazalil is substantially complete, and the risks associated with imazalil use have been mitigated so that it will not pose unreasonable risks to people or the environment when used according to its approved labeling. EPA had previously evaluated the tolerances for imazalil under the Food Quality Protection Act (FQPA) of 1996. The dietary risk assessment and tolerance reassessment for imazalil can be found in the Tolerance Reassessment Decision document (TRED) issued for imazalil on July 12, 2002. That document concluded that imazalil did meet the FQPA safety standards. To view this TRED, visit EPA Dockets at http://www.epa.gov/edocket. Additional supporting documents can be viewed at http://www.epa.gov/pesticides/reregistration/status.htm.

All registrants of pesticide products containing imazalil have been sent the RED, and must respond to labeling requirements and product-specific data requirements (if applicable) within 8 months of receipt. Products also containing other pesticide active ingredients will not be reregistered until those other active ingredients are determined to be eligible for reregistration.

There have been two public comment periods for the imazalil RED development, March 27, 2002 (67 FR 14710) and June 25, 2003 (68 FR 37809). EPA is not providing an additional comment period at this time. However, if there are questions or comments on the imazalil RED, they can be directed to the person listed under FOR FURTHER INFORMATION CONTACT.

B. What is the Agency's Authority for Taking this Action?

The legal authority for these REDs falls under FIFRA, as amended in 1988 and 1996. Section 4(g)(2)(A) of FIFRA directs that, after submission of all data concerning a pesticide active ingredient, “the Administrator shall determine whether pesticides containing such active ingredient are eligible for reregistration,” before calling in product-specific data on individual end-use products, and either reregistering products or taking “other appropriate regulatory action.”

List of Subjects

Environmental protection, Chemicals, Pesticides and pests.

Dated: February 15, 2005.
Debra Edwards,
Director, Office of Pesticide Programs.

[FR Doc. 05-3532 Filed 2-24-05; 8:45 am]

BILLING CODE 6560-50-S